DEPARTMENT OF ENERGY

Federal Energy Regulatory Commission

Combined Notice of Filings #1

Take notice that the Commission received the following electric corporate filings:

Docket Numbers: EC23-90-000.

Applicants: Three Corners Solar, LLC, Three Corners Prime Tenant, LLC.

Description: Joint Application for Authorization Under Section 203 of the Federal Power Act of Three Corners Solar, LLC, et al.

Filed Date: 5/26/23.

Accession Number: 20230526-5253.

Comment Date: 5 p.m. ET 6/16/23.

Docket Numbers: EC23-91-000.

Applicants: Entergy Louisiana, LLC.

Description: Application for Authorization Under Section 203 of the Federal Power Act of Entergy Louisiana, LLC.

Filed Date: 5/26/23.

Accession Number: 20230526-5258.

Comment Date: 5 p.m. ET 6/16/23.

Take notice that the Commission received the following Complaints and Compliance filings in EL Dockets:

Docket Numbers: EL23-72-000.

Applicants: Payton Solar, LLC v. PJM Interconnection, L.L.C., et al.

Description: Complaint of Payton Solar, LLC v. PJM Interconnection, L.L.C. et al.

Filed Date: 5/18/23.

Accession Number: 20230518-5229.

Comment Date: 5 p.m. ET 6/7/23.

Take notice that the Commission received the following electric rate filings:

Docket Numbers: ER22-424-002.

Applicants: Assembly Solar III, LLC.

Description: Compliance filing: Compliance Filing Under Docket ER22-424 to be effective 2/1/2022.

Filed Date: 5/30/23.

Accession Number: 20230530-5018.

Comment Date: 5 p.m. ET 6/20/23.

Docket Numbers: ER22-1136-002.

Applicants: Sac County Wind, LLC.

Description: Compliance filing: Compliance Filing Under Docket ER22-1136 to be effective 5/1/2022.

Filed Date: 5/30/23.

Accession Number: 20230530-5008.

Comment Date: 5 p.m. ET 6/20/23.

Docket Numbers: ER22-1610-003.

Applicants: Big River Solar, LLC.

Description: Compliance filing: Compliance Filing Under Docket ER22-1610 to be effective 9/1/2022.

Filed Date: 5/30/23.

Accession Number: 20230530-5007.

Comment Date: 5 p.m. ET 6/20/23.

Docket Numbers: ER22-1815-002.

Applicants: Mulligan Solar, LLC.

Description: Compliance filing: Compliance Filing Under Docket ER22-1815 to be effective 8/1/2022.

Filed Date: 5/30/23.

Accession Number: 20230530-5005.

Comment Date: 5 p.m. ET 6/20/23.

Docket Numbers: ER22-2385-003.

Applicants: Panorama Wind, LLC.

Description: Compliance filing: Compliance Filing Under Docket ER22-2385 to be effective 7/16/2022.

Filed Date: 5/30/23.

Accession Number: 20230530-5006.

Comment Date: 5 p.m. ET 6/20/23.

Docket Numbers: ER23-973-001.

Applicants: New York Independent System Operator, Inc., Niagara Mohawk Power Corporation.

Description: Tariff Amendment: Niagara Mohawk Power Corporation submits tariff filing per 35.17(b): NMPC filing of deficiency response re: SPC project cost allocation and recovery to be effective 4/1/2023.

Filed Date: 5/30/23.

Accession Number: 20230530-5178.

Comment Date: 5 p.m. ET 6/20/23.

Docket Numbers: ER23-1978-000.

Applicants: California Independent System Operator Corporation.

Description: § 205(d) Rate Filing: 2023-05-26 Recollation-Assigning New Collation Values (no tariff changes) 2 of 2 to be effective 7/3/2010.

Filed Date: 5/26/23.

Accession Number: 20230526-5172.

Comment Date: 5 p.m. ET 6/16/23.

Docket Numbers: ER23-1979-000.

Applicants: Generate NB Fuel Cells, LLC.

Description: Baseline eTariff Filing: Generate NB Fuel Cells, LLC Facilities Operating Agreement to be effective 5/27/2023.

Filed Date: 5/26/23.

Accession Number: 20230526-5193.

Comment Date: 5 p.m. ET 6/16/23.

Docket Numbers: ER23-1980-000.

Applicants: El Paso Electric Company.

Description: § 205(d) Rate Filing: Depreciation Rate Update Associated with Rate Schedule No. 18 to be effective 8/1/2023.

Filed Date: 5/26/23.

Accession Number: 20230526-5194.

Comment Date: 5 p.m. ET 6/16/23.

Docket Numbers: ER23-1981-000.

Applicants: Cleco Power LLC, Louisiana Generating LLC, Cleco Support Group LLC.

Description: Request for Limited Waiver, et al. of Cleco Support Group LLC under ER23-1981.

Filed Date: 5/26/23.

Accession Number: 20230526-5250.

Comment Date: 5 p.m. ET 6/16/23.

Docket Numbers: ER23-1982-000.

Applicants: Southern California Edison Company.

Description: § 205(d) Rate Filing: Pechanga Western Electric Export IFA & DSA (WDT1453EXP/SA1231-1232) to be effective 5/31/2023.

Filed Date: 5/30/23.

Accession Number: 20230530-5071.

Comment Date: 5 p.m. ET 6/20/23.

Docket Numbers: ER23-1983-000.

Applicants: MFT Energy US Power LLC.

Description: Baseline eTariff Filing: Baseline new to be effective 7/31/2023.

Filed Date: 5/30/23.

Accession Number: 20230530-5078.

Comment Date: 5 p.m. ET 6/20/23.

Docket Numbers: ER23-1984-000.

Applicants: Tri-State Generation and Transmission Association, Inc.

Description: § 205(d) Rate Filing: Initial Filing of Rate Schedule FERC No. 356 to be effective 4/28/2023.

Filed Date: 5/30/23.

Accession Number: 20230530-5119.

Comment Date: 5 p.m. ET 6/20/23.

Docket Numbers: ER23-1985-000.

Applicants: Tri-State Generation and Transmission Association, Inc.

Description: § 205(d) Rate Filing: Amendment to Rate Schedule FERC No. 27 to be effective 7/31/2023.

Filed Date: 5/30/23.

Accession Number: 20230530-5121.

Comment Date: 5 p.m. ET 6/20/23.

Docket Numbers: ER23-1986-000.

Applicants: Arizona Public Service Company.

Description: § 205(d) Rate Filing: Service Agreement No. 410, Nextera LGIA to be effective 4/30/2023.

Filed Date: 5/30/23.

Accession Number: 20230530-5124.

Comment Date: 5 p.m. ET 6/20/23.

Docket Numbers: ER23-1987-000.

Applicants: Tri-State Generation and Transmission Association, Inc.

Description: § 205(d) Rate Filing: Amendment to Rate Schedule FERC No. 22 to be effective 7/31/2023.

Filed Date: 5/30/23.

Accession Number: 20230530-5128.

Comment Date: 5 p.m. ET 6/20/23.

Docket Numbers: ER23-1988-000.

Applicants: Arizona Public Service Company.

Description: Tariff Amendment: Service Agreement No. 393, Notice of Cancellation to be effective 7/30/2023.

Filed Date: 5/30/23.

Accession Number: 20230530-5132.

Comment Date: 5 p.m. ET 6/20/23.

Docket Numbers: ER23-1989-000.

Applicants: Cheyenne Light, Fuel and Power Company.

Description: § 205(d) Rate Filing: Non-Conforming LGIA with Silver Sage Windpower, LLC to be effective 5/1/2023.

Filed Date: 5/30/23.

Accession Number: 20230530-5140.

Comment Date: 5 p.m. ET 6/20/23.

Docket Numbers: ER23-1990-000.

Applicants: AEP Texas Inc.

Description: § 205(d) Rate Filing: AEPTX-BRP Antlia BESS 2nd A&R Generation Interconnection Agreement to be effective 5/11/2023.

Filed Date: 5/30/23.

Accession Number: 20230530-5157.

Comment Date: 5 p.m. ET 6/20/23.

Docket Numbers: ER23-1991-000.

Applicants: CenterPoint Energy Houston Electric, LLC.

Description: § 205(d) Rate Filing: TFO Tariff Interim Rate Revision to Conform with PUCT to be effective 5/24/2023.

Filed Date: 5/30/23.

Accession Number: 20230530-5158.

Comment Date: 5 p.m. ET 6/20/23.

Docket Numbers: ER23-1993-000.

Applicants: AEP Texas Inc.

Description: § 205(d) Rate Filing: AEPTX-Pintail Pass BESS Generation Interconnection Agreement to be effective 5/16/2023.

Filed Date: 5/30/23.

Accession Number: 20230530-5172.

Comment Date: 5 p.m. ET 6/20/23.

Docket Numbers: ER23-1994-000.

Applicants: AEP Texas Inc.

Description: § 205(d) Rate Filing: AEPTX-BRP Carina BESS 2nd A&R Generation Interconnection Agreement to be effective 5/16/2023.

Filed Date: 5/30/23.

Accession Number: 20230530-5174.

Comment Date: 5 p.m. ET 6/20/23.

Docket Numbers: ER23-1995-000.

Applicants: AEP Texas Inc.

Description: § 205(d) Rate Filing: AEPTX-Third Coast BESS Generation Interconnection Agreement to be effective 5/17/2023.

Filed Date: 5/30/23.

Accession Number: 20230530-5182.

Comment Date: 5 p.m. ET 6/20/23.

Docket Numbers: ER23-1996-000.

Applicants: PJM Interconnection, L.L.C.

Description: § 205(d) Rate Filing: Update the Definition of Emergency Action—Request Shortened Comment Period to be effective 6/1/2023.

Filed Date: 5/30/23.

Accession Number: 20230530-5201.

Comment Date: 5 p.m. ET 6/9/23.

Docket Numbers: ER23-1997-000.

Applicants: PJM Interconnection, L.L.C.

Description: Tariff Amendment: Notice of Cancellation of ISA, SA No. 4592, Queue No. AC1-182 to be effective 5/31/2023.

Filed Date: 5/30/23.

Accession Number: 20230530-5213.

Comment Date: 5 p.m. ET 6/20/23.

Take notice that the Commission received the following qualifying facility filings:

Docket Numbers: QF18-491-000; QF21-113-000; QF18-492-000.

Applicants: C2 MA Swansea, LLC, C2 MA ADAMS II, LLC, C2 MA Adams 1, LLC.

Description: Refund Report of C2 MA Adams I, LLC, et al.

Filed Date: 5/26/23.

Accession Number: 20230526-5247.

Comment Date: 5 p.m. ET 6/16/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 30, 2023.
Debbie-Anne A. Reese,
Deputy Secretary.

[FR Doc. 2023-11890 Filed 6-2-23; 8:45 am]

BILLING CODE 6717-01-P